DEPARTMENT OF EDUCATION

[Docket No.: ED-2019-ICCD-0059]

Agency Information Collection Activities; Submission to the Office of Management and Budget for Review and Approval; Comment Request; Impact Aid Program—Application for Section 7003 Assistance

AGENCY: Office of Elementary and Secondary Education (OESE), Department of Education (ED).

ACTION: Notice.

SUMMARY: In accordance with the Paperwork Reduction Act of 1995, ED is proposing a revision of an existing information collection.

DATES: Interested persons are invited to submit comments on or before August 12, 2019.

ADDRESSES: To access and review all the documents related to the information collection listed in this notice, please use http://www.regulations.gov by searching the Docket ID number ED-2019-ICCD-0059. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9086, Washington, DC 20202-0023.

FOR FURTHER INFORMATION CONTACT: For specific questions related to collection activities, please contact Amanda Ognibene, 202-453-6637.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Aid Program—Application for Section 7003 Assistance.

OMB Control Number: 1810-0687.

Type of Review: A revision of an existing information collection.

Respondents/Affected Public: State, Local, and Tribal Governments.

Total Estimated Number of Annual Responses: 301,079.

Total Estimated Number of Annual Burden Hours: 87,656.

Abstract: The U.S. Department of Education is requesting approval for the Application for Assistance under Section 7003 of Title VIII of the Elementary and Secondary Education Act (ESEA) as amended by the Every Student Succeeds Act (ESSA). This application is for a grant program otherwise known as Impact Aid Basic Support Payments. Local Educational Agencies (LEAs) whose enrollments and revenues are adversely impacted by Federal activities use this form to request financial assistance. Regulations for the Impact Aid Program are found at 34 CFR 222.

The statute and regulations for this program require a variety of data from applicants annually to determine eligibility for the grants and the amount of grant payment under the statutory formula. The least burdensome method of collecting this required information is for each applicant to submit these data through a web-based electronic application hosted on the Impact Aid Grant System (IAGS) website.

The Impact Aid Program, authorized by Title VII of the Elementary and Secondary Education Act (ESEA), provides financial assistance to local educational agencies (LEAs) whose enrollment or revenues are adversely affected by Federal activities.

The statute and implementing regulations (34 CFR part 222) require information from applicants annually to determine eligibility for and the amount of payments. The least burdensome method of collecting this required information is for each applicant to submit it as part of its annual Impact Aid application, previously approved under OMB 1810-0687.

ED is now requesting to revise this collection. Previously, applicants submitted applications through ED's G5 website. Now, the Impact Aid Program is developing its own online grants management system to better serve the local educational agencies who receive Impact Aid funds. Grantees will now be able to submit the annual application through the Impact Aid Grant System. The program has revised the application to be more user-friendly and reduce burden. The data collected on the application is largely the same. All changes are summarized below.

• The program regulations at 34 CFR 222.33 require that LEAs survey their Federally connected children “no earlier than the fourth day of the regular school year.” In order to monitor this, we will have each applicant enter the first day of school for students.

• We now require first-time Charter School LEA applicants to submit their charter and their annual financial report at the time of application. The program has always required new charter school applicants to submit this information in order to verify that the school is financially independent and able to apply on its own behalf as an LEA, per the statutory definition in 20 U.S.C. 7713; however, they were requested after the charter school submitted the application. We are now asking for these documents with the application to speed the review process.

• Another change requires applicants to affirm they have enough children to qualify for categories F and G before being allowed to enter child counts in those categories. This is intended to save them effort in data entry. This does not require any additional submissions with the data collection.

• We no longer require the Housing Official Certification form. We ask only for the Housing Official's contact information so that we may obtain data required to calculate housing renovation claims directly from the official.

• We have eliminated the requirement to upload a signed cover page and assurances page, and will permit applicants to sign the required attestations and certifications electronically.

Dated: July 9, 2019.
Kate Mullan,
PRA Coordinator, Information Collection Clearance Program, Information Management Branch, Office of the Chief Information Officer.

[FR Doc. 2019-14859 Filed 7-11-19; 8:45 am]

BILLING CODE 4000-01-P